DEPARTMENT OF THE INTERIOR

Fish and Wildlife Service

[FWS-R8-R-2008-N0101; 80230-1265-0000-S3]

Ellicott Slough National Wildlife Refuge, Santa Cruz County, CA

AGENCY: Fish and Wildlife Service, Interior.

ACTION: Notice of intent to prepare a comprehensive conservation plan and environmental assessment; request for comments.

SUMMARY: We, the U.S. Fish and Wildlife Service (Service) intend to prepare a Comprehensive Conservation Plan (CCP) and Environmental Assessment (EA) for the Ellicott Slough National Wildlife Refuge located in Santa Cruz County of California. We provide this notice in compliance with our CCP policy to advise other Federal and State agencies, Tribes, and the public of our intentions, and to obtain suggestions and information on the scope of issues to consider in the planning process.

DATES: To ensure consideration, we must receive your written comments by August 13, 2008.

ADDRESSES: Send your comments or requests for more information by any of the following methods.

E-mail: sfbaynwrc@fws.gov. Include “Ellicott Slough CCP” in the subject line of the message.

Fax: Attn: Winnie Chan, (510) 792-5828.

U.S. Mail: San Francisco Bay National Wildlife Refuge Complex, 9500 Thornton Avenue, Newark, California 94560.

In-Person Drop-off: You may drop off comments during regular business hours at the above address.

FOR FURTHER INFORMATION CONTACT: Winnie Chan, Refuge Planner, or Diane Kodama, Refuge Manager, at (510) 792-0222.

SUPPLEMENTARY INFORMATION:

Introduction

With this notice, we initiate our process for developing a CCP for Ellicott Slough NWR in Santa Cruz County, CA. This notice complies with our CCP policy to (1) Advise other Federal and State agencies, Tribes, and the public of our intention to conduct detailed planning on this refuge and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

Congress established each unit of the National Wildlife Refuge System for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. We will be contacting identified stakeholders and individuals at this time for initial input. If you would like to meet with planning staff or would like to receive periodic updates, please contact us (see ADDRESSES section). We anticipate holding a public meeting once alternative management scenarios have been identified. At this time we encourage comments in the form of issues, concerns, ideas, and suggestions for the future management of Ellicott Slough NWR.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

Ellicott Slough National Wildlife Refuge

Ellicott Slough National Wildlife Refuge was established in 1975 pursuant to the Endangered Species Act of 1973 (16 U.S.C. 1537) and the Emergency Wetlands Resources Act of 1986 (16 U.S.C. 3901b). The nearly 300-acre Ellicott Slough National Wildlife Refuge, located in Santa Cruz County, California, consists of three non-contiguous units within and adjacent to Ellicott Slough and associated watersheds. The Refuge was established to protect the endangered Santa Cruz long-toed salamander by supporting two of the twenty known breeding populations of the salamander. Due to the sensitivity of the habitat, the Refuge is closed to the public. Through this CCP process, we will determine whether any wildlife-dependent recreational opportunities should be made available to the public.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: July 7, 2008.
Ken McDermond,
Acting Regional Director, California and Nevada Region, Sacramento, California.

[FR Doc. E8-15916 Filed 7-11-08; 8:45 am]

BILLING CODE 4310-55-P